DEPARTMENT OF LABOR

Employment and Training Administration

Proposed Information Collection Request Submitted for Public Comment and Recommendations; Foreign Labor Certification Quarterly Activity Report

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(A)]. This program helps to ensure that requested data can be provided in the desired format, reporting burden (time and financial resources) is minimized, collection instruments are clearly understood, and the impact of collection requirements on respondents can be properly assessed. Currently, the Employment and Training Administration, Office of National Programs is soliciting comments concerning the proposed collection of information on the Foreign Labor Certification Quarterly Activity Report from the State Workforce Agencies. A copy of the proposed Information Collection Request (ICR) can be obtained by contacting the office listed below in the addressee section of this Notice.

DATES: Written comments must be submitted to the office listed in the addressee's section below on or before January 3, 2006.

ADDRESSES: John R. Beverly, Administrator, Office of National Programs, U.S. Department of Labor, Employment and Training Administration, Room C-4312, 200 Constitution Avenue, NW., Washington, DC 20210, phone: (202) 693-3010 (this is not a toll-free number); fax: (202) 693-2768; e-mail: ETAperforms@dol.gov.

FOR FURTHER INFORMATION CONTACT: Gregory Wilson, Program Analyst, Division of Foreign Labor Certification, U.S. Department of Labor, Employment & Training Administration, Room C-4312, 200 Constitution Avenue, NW., Room C-4312, Washington, DC 20210; phone: (202) 693-3010 (this is not a toll-free number); fax: (202) 693-2768; e-mail: ETAperforms@dol.gov.

SUPPLEMENTARY INFORMATION:

I. Background

Foreign labor certification programs administered by the Employment and Training Administration (ETA) of the Department of Labor (DOL or Department) require State Workforce Agencies (SWAs) to initially process applications for temporary labor certifications (H-2A and H-2B) filed by U.S. employers on behalf of foreign workers seeking to be employed in the U.S. SWAs are also responsible for issuing prevailing wage determinations, reviewing employer-provided wage surveys or other source data, conducting housing inspections of facilities offered to migrant and seasonal workers, and conducting and monitoring recruitment activities seeking qualified U.S. workers for the temporary jobs employers are attempting to fill with foreign workers. The SWAs perform these functions under a reimbursable grant that is awarded annually. The information pertaining to these functions is proposed to be collected on the Form ETA 9127 and will be used by Departmental staff to manage foreign (alien) labor certification programs in the SWAs. The Department will use the data collected to: (1) Monitor the number of temporary applications that are received, processed, and forwarded to the national processing centers; (2) determine the number of prevailing wage determinations issued to employers under the permanent and temporary labor certification programs, as well as the H-1B program for nonimmigrant professionals in specialty occupations; and (3) track the number of agricultural prevailing wage and practice surveys conducted, housing inspections made, and job orders filed. The information on workload will be used for formulating budget estimates for both state and Federal workloads, and for monitoring a state's performance against the grant statement of work and work plan. Without such information, the budget workload figures will be estimates and the allocation of funding to the SWAs will not reflect the true workload in a state.

II. Review Focus

Currently, the Department is soliciting comments concerning the proposed collection of information on the Foreign Labor Certification Quarterly Activity Report.

The Department is particularly interested in comments which:

• Evaluate whether the proposed information collection is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collections techniques or other forms of information, e.g., permitting electronic submissions of responses.

A copy of the proposed ICR can be obtained by contacting the office listed above in the addressee section of this notice.

III. Current Actions

In order for the Department to meet its statutory responsibilities under the Immigration and Nationality Act, there is a need for a new collection of information pertaining to the SWAs changing role in the program. There is an increase in burden due to a change in the frequency of the report.

Type of Review: Proposed information request.

Agency: Employment and Training Administration, Labor.

Title: Foreign Labor Certification Quarterly Activity Report OMB Number: 1205-XXXX (new).

Affected Public: State, local, or tribal governments.

Form: ETA 9127.

Total Respondents: 54 State Workforce Agencies.

Frequency of Response: Quarterly.

Total Responses: 216.

Average Burden Hours Per Response: 2 hours.

Estimate Total Annual Burden Hours: 432.

Comments submitted in response to this notice will be summarized and/or included in the request for Office of Management and Budget approval of the ICR; they will also become a matter of public record.

Dated: October 18, 2005.
Emily Stover DeRocco,
Assistant Secretary, Employment and Training Administration.

[FR Doc. E5-6097 Filed 11-2-05; 8:45 am]

BILLING CODE 4510-30-P